DEPARTMENT OF JUSTICE

Notice of Lodging of Proposed Consent Decree Under the Clean Air Act

On September 24, 2015, the Department of Justice lodged a proposed Consent Decree with the United States District Court of the Virgin Islands in the lawsuit entitled United States of America v. Virgin Islands Water and Power Authority, Civil Action No. 3:14-cv-00086.

The Consent Decree resolves Clean Air Act violations alleged in the Complaint filed by the United States on October 30, 2014. The violations alleged in the Complaint with respect to VIWAPA's St. Thomas facility include VIWAPA's failure to properly operate and/or maintain its water injection systems on its gas turbine units, failure to operate in compliance with NOX, sulfuric acid mist, particulate matter and VOC emission limits, failure to operate in compliance with opacity limits, failure to perform required audits and maintain required quality data availability, failure to properly operate and calibrate the continuous emission monitoring systems (CEMS) for NOX and CO, failure to conduct stack testing every 30 months, and failure to properly report non-compliance. The violations alleged in the Complaint with respect to VIWAPA's St. John facility concern VIWAPA's failure to comply with the RICE NESHAP regulations, failure to timely submit a Title V renewal application and operation without a Title V permit, and failure to conduct stack testing every 30 months.

The Consent Decree requires VIWAPA to generate a high percentage of its KWh from liquid propane gas or liquid natural gas and renewables, to implement a spare parts inventory program, to control NOX emissions through improved operation of its water injection system, to maintain and operate continuous emissions monitoring systems on specified units, to operate a video camera system for visible emissions, to perform stack testing, and to conduct targeted self-audits and third party audits given its long term compliance problems. The Consent Decree also requires a $1,300,000 penalty to be paid within two years of the Effective Date of the Consent Decree. The penalty amount was based upon VIWAPA's limited financial ability to pay a penalty.

The Department of Justice will receive, for a period of thirty (30) days from the date of this publication, comments relating to the Consent Decree. Comments should be addressed to the Assistant Attorney General for the Environmental and Natural Resources Division, and should refer to United States v. Virgin Islands Water and Power Authority, DOJ Ref. # 90-5-2-1-10424. All comments must be submitted no later than thirty days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611. Please enclose a check or money order for $22.75 (25 cents per page reproduction cost) payable to the United States Treasury.

Robert E. Maher Jr.,
Assistant Chief, Environmental Enforcement Section, Environment & Natural Resources Division.

[FR Doc. 2015-24711 Filed 9-29-15; 8:45 am]

BILLING CODE 4410-15-P